GENERAL SERVICES ADMINISTRATION

[OMB Control No. 3090-0250; Docket No. 2014-0001; Sequence 5]

Submission to OMB for Review; General Services Administration Acquisition Regulation; Zero Burden Information Collection Reports

AGENCY: Office of the Chief Acquisition Officer, General Services Administration (GSA).

ACTION: Notice of request for public comments regarding an extension to an existing OMB information collection.

SUMMARY: Under the provisions of the Paperwork Reduction Act, the Regulatory Secretariat Division (MVCB) will be submitting to the Office of Management and Budget (OMB) a request to review and approve an extension of a previously approved information collection requirement regarding Zero Burden Information Collection Reports. A notice was published in the Federal Register at 79 FR 42515 on July 22, 2014. No comments were received.

DATES: Submit comments on or before: November 21, 2014.

ADDRESSES: Submit comments identified by Information Collection 3090-0250, Zero Burden Information Collection Reports, by any of the following methods:

• Regulations.gov: http://www.regulations.gov.

Submit comments via the Federal eRulemaking portal by searching the OMB control number 3090-0250. Select the link “Comment Now” that corresponds with “Information Collection 3090-0250, Zero Burden Information Collection Reports”. Follow the instructions provided on the screen. Please include your name, company name (if any), and “Information Collection 3090-0250, Zero Burden Information Collection Reports” on your attached document.

• Fax: 202-501-4067.

• Mail: General Services Administration, Regulatory Secretariat Division (MVCB), 1800 F Street NW., Washington, DC 20405. ATTN: Ms. Flowers/IC 3090-0250, Zero Burden Information Collection Reports.

Instructions: Please submit comments only and cite Information Collection 3090-0250, Zero Burden Information Collection Reports, in all correspondence related to this collection. All comments received will be posted without change to http://www.regulations.gov, including any personal and/or business confidential information provided.

FOR FURTHER INFORMATION CONTACT: Ms. Dana Munson, Procurement Analyst, General Services Acquisition Policy, at telephone 202-357-9652 or via email to dana.munson@gsa.gov

SUPPLEMENTARY INFORMATION:

A. Purpose

This information requirement consists of reports that do not impose collection burdens upon the public. These collections require information which is already available to the public at large or that is routinely exchanged by firms during the normal course of business. A general control number for these collections decreases the amount of paperwork generated by the approval process.

GSA has a published rule in the Federal Register that falls under information collection 3090-0250. The rule that prescribed clause 552.238-70 “Identification of Electronic Office Equipment Providing Accessibility for the Handicapped” was published at 56 FR 29442, June 27, 1991, titled “Implementation of Public Law 99-506”, with an effective date of July 8, 1991.

B. Annual Reporting Burden

None.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street NW., Washington, DC 20405, telephone 202-501-4755. Please cite OMB Control No. 3090-0250, Zero Burden Information Collection Reports, in all correspondence.

Dated: October 16, 2014.
Jeffrey Koses,
Senior Procurement Executive, Office of Acquisition Policy, Office of Government-wide Policy.

[FR Doc. 2014-25110 Filed 10-21-14; 8:45 am]

BILLING CODE 6820-61-P